APPALACHIAN STATES LOW-LEVEL RADIOACTIVE WASTE COMMISSION

Annual Meeting

Time and Date: 10 a.m.-12:30 p.m. November 7, 2008.

Place: Harrisburg Hilton and Towers, One North Second Street, Harrisburg, PA 17101.

Status: The meeting will be open to the public. However, the executive session will be closed to the public.

Matters To Be Considered:

Portions Open To the Public: The primary purpose of this meeting is to (1) Review the independent auditors' report of Commission's financial statements for fiscal year 2007-2008; (2) Review the Low-Level Radioactive Waste (LLRW) generation information for 2007; (3) Consider a proposal budget for fiscal year 2009-2010; (4) Review regional and national issues regarding LLRW storage, management and disposal; and (5) Elect the Commission's Officers.

Portions Closed To the Public: Executive Session, if deemed necessary, will be announced at the meeting.

Contact Person for More Information: Rich Janati, Administrator of the Commission, at 717-787-2163.

Rich Janati,
Administrator, Appalachian Compact Commission.

[FR Doc. E8-25774 Filed 10-28-08; 8:45 am]

BILLING CODE 0000-00-P